DEPARTMENT OF TRANSPORTATION

Office of the Secretary

Notice of Applications for Certificates of Public Convenience and Necessity and Foreign Air Carrier Permits Filed Under Subpart B (Formerly Subpart Q) During the Week Ending March 21, 2003

The following applications for certificates of public convenience and necessity and foreign air carrier permits were filed under subpart B (formerly subpart Q) of the Department of Transportation's procedural regulations (See 14 CFR 301.201 et. seq.). The due date for answers, conforming applications, or motions to modify scope are set forth below for each application. Following the answer period DOT may process the application by expedited procedures. Such procedures may consist of the adoption of a show-cause order, a tentative order, or in appropriate cases a final order without further proceedings.

Docket Number: OST-2003-14773.

Date Filed: March 21, 2003.

Due Date for Answers, Conforming Applications, or Motion to Modify Scope: April 11, 2003.

Description: Application of Primaris Airlines, Inc., pursuant to 49 U.S.C. 41102 and subpart B, requesting a certificate of public convenience and necessity to engage in interstate scheduled air transportation of persons, property, and mail between any point in any State of the United States or the District of Columbia, or any territory or possession of the United States, and any other point in any State of the United States or the District of Columbia, or any territory or possession of the United States.

Docket Number: OST-2003-14774.

Date Filed: March 21, 2003.

Due Date for Answers, Conforming Applications, or Motion to Modify Scope: April 11, 2003.

Description: Application of Primaris Airlines, Inc., pursuant to 49 U.S.C. 41102 and subpart B, requesting a certificate of public convenience and necessity to engage in foreign scheduled air transportation of persons, property, and mail: (a) Between any point in the United States and any point in France; (b) between any point in the United States and any point in the Federal Republic of Germany; (c) between any point in the United States and any point in Canada; and, (d) between Boston and London (Gatwick).

Dorothy Y. Beard,
Chief, Docket Operations & Media Management, Federal Register Liaison.

[FR Doc. 03-7658 Filed 3-28-03; 8:45 am]

BILLING CODE 4910-62-P